DEPARTMENT OF ENERGY

Federal Energy Regulatory Commission

[Docket No. EL02-126-000]

City of Corona, California v. Southern California Edison Company; Notice of Technical Conference

February 3, 2004.

In an order issued on January 28, 2004,¹ the Commission directed that a technical conference be held to discuss the technical information needed for the Commission to establish the terms and conditions under which Southern California Edison Company's system will be physically interconnected with the City of Corona, California.

¹ City of Corona, California.

The Commission Staff will convene a technical conference to discuss this technical information. The conference has been scheduled for February 18, 2004, at 10 a.m. in Hearing Room No. 4 at the offices of the Federal Energy Regulatory Commission, 888 First Street, NE., Washington, DC 20426.

All parties to this proceeding may attend.

For further information, please contact Heidi Gruner at heidi.gruner@ferc.gov.

Magalie R. Salas,
Secretary.

[FR Doc. E4-223 Filed 2-9-04; 8:45 am]

BILLING CODE 6717-01-P